DEPARTMENT OF STATE

[Public Notice: 12147]

Notice of Department of State Sanctions Actions

ACTION: Notice.

SUMMARY: The U.S. Department of State's Office of Economic Sanctions Policy and Implementation (SPI) is publishing the names of two persons and one vessel that have been removed from the List of Specially Designated Nationals and Blocked Persons (SDN List) maintained by the Office of Foreign Assets Control (OFAC) and are consequently no longer subject to the prohibitions imposed April 15, 2021, “Blocking Property With Respect To Specified Harmful Foreign Activities of the Government of the Russian Federation.”

DATES: The actions described in this notice were effective on May 19, 2023.

FOR FURTHER INFORMATION CONTACT: Jim Mullinax, Director, Office of Economic Sanctions Policy and Implementation, Bureau of Economic and Business Affairs, Department of State, Washington, DC 20520, tel.: (202) 647-7677, email: MullinaxJD@state.gov.

SUPPLEMENTARY INFORMATION:

Electronic Availability

The SDN List and additional information concerning OFAC sanctions programs are available from OFAC's website at http://www.treasury.gov/ofac.

Notice of Department of State Actions

On May 19, 2023, OFAC removed from the SDN List the two persons and one vessel listed below, which were subject to prohibitions imposed pursuant to E.O. 14024.

Whitney Baird,
Principal Deputy Assistant Secretary, Bureau of Economic and Business Affairs, Department of State.

[FR Doc. 2023-17650 Filed 8-16-23; 8:45 am]

BILLING CODE 4710-AE-P